DEPARTMENT OF TRANSPORTATION

Federal Highway Administration

Notice of Final Federal Agency Actions on Proposed Highways in Colorado

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to various proposed highway projects in the State of Colorado. Those actions grant licenses, permits, and approvals for the projects.

DATES: By this notice, the FHWA is advising the public of final agency actions subject to 23 U.S.C. 139(l)(1). A claim seeking judicial review of the Federal agency actions on any of the listed highway projects will be barred unless the claim is filed on or before October 22, 2012. If the Federal law that authorizes judicial review of a claim provides a time period of less than 180 days for filing such claim, then that shorter time period still applies.

FOR FURTHER INFORMATION CONTACT: Stephanie Gibson, Environmental Program Manager, Federal Highway Administration Colorado Division, 12300 W. Dakota Avenue, Lakewood, Colorado 80228, 720-963-3013, Stephanie.gibson@dot.gov normal business hours are 8 a.m. to 4:30 p.m. (Mountain time); You may also contact Vanessa Henderson, NEPA Program Manager, Colorado Department of Transportation, 4201 E. Arkansas Avenue, Shumate Building, Denver, Colorado 80222, 303-757-9878, Vanessa.henderson@dot.state.co.us, normal business hours are 6:30 a.m. to 4 p.m. (Mountain time).

SUPPLEMENTARY INFORMATION: Notice is hereby given that the FHWA and other Federal agencies have taken final agency actions by issuing licenses, permits, and approvals for the highway projects in the State of Colorado that are listed below. The actions by the Federal agencies on a project, and the laws under which such actions were taken, are described in the environmental assessment (EA) or environmental impact statement (EIS) issued in connection with the project and in other key project documents. The EA or EIS, and other key documents for the listed projects are available by contacting the FHWA or the Colorado Department of Transportation at the addresses provided above. The EA, Finding of No Significant Impact (FONSI), Final EIS, and Record of Decision (ROD) documents can be viewed and downloaded from the Web sites listed below.

This notice applies to all Federal agency decisions on the project as of the issuance date of this notice and all laws under which such actions were taken. This notice does not, however, alter or extend the limitation period of 180 days for challenges to final agency actions subject to previous notices published in the Federal Register, including notice given by the Federal Transit Administration on September 23, 2010 related to U.S. 36 (75 FR 58017).

This notice applies to all Federal agency decisions, actions, approvals, licenses and permits on the project as of the issuance date of this notice, including but not limited to those arising under the following laws, as amended:

1. General: National Environmental Policy Act [42 U.S.C. 4321-4347]; Federal-Aid Highway Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Fish and Wildlife Coordination Act [16 U.S.C. 661-667(e)]; Magnuson-Stevenson Fishery Conservation and Management Act of 1976, as amended [16 U.S.C. 1801 et seq.].

5. Historic and Cultural Resources: Section 106 of the National Historic Preservation Act of 1966, as amended [16 U.S.C. 470f]; Archaeological Resources Protection Act of 1977 [16 U.S.C. 470aa-470mm]; Archaeological and Historic Preservation Act [16 U.S.C. 469-469c-2]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 [Section 404, Section 401, Section 319]; Land and Water Conservation Fund Act [16 U.S.C. 460l-4-460l-11]; Safe Drinking Water Act [42 U.S.C. 300f et seq.]; Rivers and Harbors Act of 1899 [33 U.S.C. 401-406]; TEA-21 Wetlands Mitigation [23 U.S.C. 103(b)(6)(m), 133(b)(11)]; Flood Disaster Protection Act [42 U.S.C. 4001-4129].

8. Hazardous Materials: Comprehensive Environmental Response, Compensation, and Liability Act [42 U.S.C. 9601-9675]; Superfund Amendments and Reauthorization Act of 1986 [Pub. L. 99-499]; Resource Conservation and Recovery Act [42 U.S.C. 6901-6992(k)].

9. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

The projects subject to this notice are:

1. U.S. 36 Corridor Project. Project location: U.S. 36 from Denver to Boulder. Project reference number: NO 0361-070. Project type: The project's purpose is to improve mobility along the U.S. 36 corridor from Interstate 25 in Adams County to Foothills Parkway/Table Mesa Drive in Boulder, a distance of approximately 18 miles. The project includes the reconstruction of U.S. 36 road surface, one buffer-separated managed lane in each direction, bus rapid transit (BRT) ramp stations, auxiliary lanes between most interchanges, a bikeway the entire length of the project, and alternative transportation strategies. FHWA NEPA documents: DEIS and Draft Section 4(f) Evaluation signed July 23, 2007, FEIS and Final Section 4(f) Evaluation signed October 30, 2009, ROD signed December 24, 2009. Department of the Army Permit No. 200380602. http://www.coloradodot.info/projects/us36eis.

2. U.S. 6 and Wadsworth. Project location: Lakewood, Jefferson County. Project reference number: STU 0062-019. Project type: Reconstruction of U.S. 6/Wadsworth Boulevard interchange with the existing clover leaf being changed to a tight diamond with loop ramp in the northwest quadrant and the widening of Wadsworth between 1 4th and 4th Avenues with the addition of a travel lane in each direction. FHWA NEPA documents: EA and Draft Section 4(f) Evaluation signed June 29, 2009, FONSI and Final Section 4(f) Evaluation signed March 12, 2010. http://www.coloradodot.info/projects/US6wadsworth/environmental-assessment-and-draft-4-f-evaluation.html.

3. Powers Boulevard (SH 21) between Woodman Road and SH 16. Project location: Colorado Springs, El Paso County. Project reference number: STU R200-109. Project type: The proposed project would reconstruct the existing expressway as a 6-lane freeway for 11 miles between Woodmen Road and Milton E. Proby Parkway, build 11 new grade separated interchanges, and obtain right-of-way to accommodate future interchanges for a freeway on the existing 5.8-miles between Milton E. Proby Parkway and SH 16. The purpose of the project is to reduce current and future traffic congestion on Powers Boulevard between Woodmen Road and SH 16 and to accommodate connections with the region's planned transportation network. FHWA NEPA documents: EA signed May 4, 2010, FONSI signed January 4, 2011. http://www.thepowerslink.com/.

4. I-70 East Eagle Interchange. Project location: Town of Eagle, Eagle County. Project reference number: CC 0702-268. Project type: The proposed project is a new interchange located 1.8 miles east of the existing Eby Creek Road interchange in Eagle with a connector road to U.S. 6. The purpose of the project is to address problems with congestion, local road connectivity, safety, and to support local development plans. FHWA NEPA documents: EA signed September 3, 2010, FONSI signed May 24, 2011. http://www.townofeagle.org/index.aspx?NID=106.

5. I-70 Mountain Corridor Programmatic EIS. Project location: Garfield, Eagle, Summit, Clear Creek, and Jefferson Counties. Project Reference Number: IM 0703-244. Project type: This Tier 1 EIS process identified a multimodal solution which includes three main components: non-infrastructure components, an Advanced Guideway System, and highway improvements. The Federal actions covered by this notice include Tier 1 decisions that will be used by Federal agencies in subsequent proceedings, including decisions whether to grant licenses, permits and approvals for highway projects. Tier 1 decisions may also be relied upon by state and local agencies in proceedings on the project. Section 4 of the Introduction of the Tier 1 Final Programmatic EIS and Section A of the Record of Decision specify the decisions being made at this Tier 1 level. Challenges to these Tier 1 decisions must be made within 180 days of this notice or they will be barred. The purpose for transportation improvements is to increase capacity, improve accessibility and mobility, and decrease congestion for travel demand (projected to occur in 2050) to destinations along the Corridor as well as for interstate travel, while providing for and accommodating environmental sensitivity, community values, transportation safety, and ability to implement the proposed solutions for the Corridor. FHWA NEPA documents: Draft Programmatic EIS signed August 10, 2010, Final Programmatic EIS signed February 24, 2011, ROD signed June 16, 2011. http://www.coloradodot.info/projects/i-70mountaincorridor.

(Catalog of Federal Domestic Assistance Program Number 20.205, Highway Planning and Construction. The regulations implementing Executive Order 12372 regarding intergovernmental consultation on Federal programs and activities apply to this program.)

Authority: 23 U.S.C. 139(l)(1).

John M. Cater,
Division Administrator, Lakewood, Colorado.

[FR Doc. 2012-9754 Filed 4-20-12; 8:45 am]

BILLING CODE 4910-22-P